DEPARTMENT OF AGRICULTURE

Agricultural Marketing Service

7 CFR Part 999

[Docket No. FV02-999-1 PR]

Specialty Crops, Import Regulations; Addition of a New Varietal Type to the Raisin Import Regulation

AGENCY: Agricultural Marketing Service, USDA.

ACTION: Proposed rule.

SUMMARY: This rule would add Other-Seedless Sulfured raisins, along with quality requirements, to the raisin import regulation. The import regulation is authorized under section 8e of the Agricultural Marketing Agreement Act of 1937 (Act) and requires imports of raisins to meet the same or comparable grade and size requirements as those in effect under Federal Marketing Order No. 989 (order). The order regulates the handling of raisins produced from grapes grown in California. The regulations authorized under the domestic order were recently changed to add Other-Seedless Sulfured raisins, along with quality requirements for this varietal type. This is a new type of raisin being produced by some California industry members. This rule would bring the import regulation into conformity with the regulations for California raisins under the marketing Order.

DATES: Comments must be received by August 13, 2002.

ADDRESSES: Interested persons are invited to submit written comments concerning this proposal. Comments must be sent to the Docket Clerk, Marketing Order Administration Branch, Fruit and Vegetable Programs, AMS, USDA, 1400 Independence Avenue SW., STOP 0237, Washington, DC 20250-0237; Fax (202) 720-8938, or E-mail: moab.docketclerk@usda.gov. All comments should reference the docket number and the date and page number of this issue of the Federal Register and will be made available for public inspection in the Office of the Docket Clerk during regular business hours, or can be viewed at: http://www.ams.usda.gov/fv/moab.html.

FOR FURTHER INFORMATION CONTACT: Maureen T. Pello, Senior Marketing Specialist, California Marketing Field Office, Marketing Order Administration Branch, Fruit and Vegetable Programs, AMS, USDA, 2202 Monterey Street, suite 102B, Fresno, California 93721; telephone: (559) 487-5901, Fax: (559) 487-5906; or George Kelhart, Technical Advisor, Marketing Order Administration Branch, Fruit and Vegetable Programs, AMS, USDA, 1400 Independence Avenue SW., STOP 0237, Washington, DC 20250-0237; telephone: (202) 720-2491, Fax: (202) 720-8938.

Small businesses may request information on complying with this regulation by contacting Jay Guerber, Marketing Order Administration Branch, Fruit and Vegetable Programs, AMS, USDA, 1400 Independence Avenue SW., STOP 0237, Washington DC 20250-0237; telephone: (202) 720-2491, Fax: (202) 720-8938, or E-mail: Jay.Guerber@usda.gov.

SUPPLEMENTARY INFORMATION: This proposed rule is issued under section 8e of the Agricultural Marketing Agreement Act of 1937, as amended (7 U.S.C. 601-674), hereinafter referred to as the “Act,” which provides that whenever certain specified commodities, including raisins, are regulated under a Federal marketing order, imports of these commodities into the United States are prohibited unless they meet the same or comparable grade, size, quality, or maturity requirements as those in effect for the domestically produced commodity.

The Department of Agriculture (USDA) is issuing this rule in conformance with Executive Order 12866.

This rule has been reviewed under Executive Order 12988, Civil Justice Reform. This rule is not intended to have retroactive effect. This rule will not preempt any State or local laws, regulations, or policies, unless they present an irreconcilable conflict with this rule.

There are no administrative procedures which must be exhausted prior to any judicial challenge to the provisions of import regulations issued under section 8e of the Act.

This rule would add a new varietal type to the raisin import regulation. This action would add Other Seedless-Sulfured raisins, along with quality requirements, to the import regulation. This action is necessary to bring the import regulation in line with the domestic marketing order. The order regulates the handling of raisins produced from grapes grown in California.

The domestic order provides authority for volume and quality regulations that are imposed by varietal type. Section 989.10 of the order defines the term “varietal type” to mean raisins generally recognized as possessing characteristics differing from other raisins in a degree sufficient to make necessary or desirable separate identification and classification. That section includes a list of varietal types, and provides authority for the Raisin Administrative Committee (RAC), with the approval of USDA, to change this list. A description of these varietal types, along with additional varietal types, is specified in § 989.110 of the order's administrative rules and regulations.

In August 2001, the RAC, which locally administers the order, recommended changing the domestic regulation to add a new varietal type of raisin. Some California industry members are marketing a new type of raisin that is made by dehydrating sulfured red seedless grapes. These raisins did not fit into any of the existing varietal types specified under the order prior to the issuance of the rulemaking action mentioned below. Such raisins are similar to the Other Seedless varietal type, except they have been sulfured. Such raisins are also similar to the Golden Seedless varietal type, but may not meet the color requirements for Golden Seedless raisins. Golden Seedless raisins are made from green seedless grapes and are mostly yellowish green to green amber in color when sulfured. Red seedless grapes typically vary in color when sulfured. Thus, the RAC recommended establishing a new varietal type, along with quality requirements, for Other Seedless-Sulfured raisins. This action was published in the Federal Register on May 28, 2002 (67 FR 36789) and became effective on May 29, 2002.

This rule would bring the raisin import regulation into conformity with the domestic order. This action would add Other Seedless-Sulfured raisins to the list of varietal types specified in § 999.300(a)(2) of the raisin import regulation. This rule would also add Other Seedless-Sulfured raisins to § 999.300(b)(1); thus, imports of such raisins would have to meet the same quality requirements in effect for such raisins domestically produced. USDA is not aware of any imports of this type of raisin at this time.

Accordingly, imported lots of Other Seedless-Sulfured raisins would have to meet the requirements of U.S. Grade C as defined in the United States Standards for Grades of Processed Raisins (§§ 52.1841 through 52.1858) issued under the Agricultural Marketing Act of 1946 (7 U.S.C. 1622 through 1624). At least 70 percent, by weight, of the raisins in a lot would have to be well-matured or reasonably well-matured. With respect to select-sized and mixed-sized lots, the raisins would have to at least meet the U.S. Grade B tolerances for pieces of stem and undeveloped and substandard raisins, and small (midget) sized raisins would have to meet the U.S. Grade C tolerances for those factors. Raisin importers would continue to be charged $47 per hour by USDA for inspecting the raisins.

Initial Regulatory Flexibility Analysis

Pursuant to requirements set forth in the Regulatory Flexibility Act (RFA), the Agricultural Marketing Service (AMS) has considered the economic impact of this action on small entities. Accordingly, AMS has prepared this initial regulatory flexibility analysis.

The purpose of the RFA is to fit regulatory actions to the scale of business subject to such actions in order that small businesses will not be unduly or disproportionately burdened. Marketing orders issued pursuant to the Act, and rules issued thereunder, are unique in that they are brought about through group action of essentially small entities acting on their own behalf. Thus, both statutes have small entity orientation and compatibility. Import regulations issued under the Act are based on those established under Federal marketing orders.

There are approximately 75 importers of raisins. During the 2000-01 season (August 2000 through September 2001), the dollar value of U.S. raisin imports totaled $12.2 million. During the 1999-2000 season, the value was $21.7 million. During the 1996-97 through 2000-01 seasons, the value of imports ranged from a low of $11.8 million in 1997-98 to a high of $29.6 million in 1998-99. Small agricultural service firms, which includes raisin importers, are defined by the Small Business Administration (13 CFR 121.201) as those having annual receipts of less than $5,000,000. A majority of importers may be classified as small entities.

Mexico, Chile, Argentina, and the Republic of South Africa are the major raisin-producing countries exporting raisins to the United States. During the 2000-01 season, 11,631 metric tons of raisins were imported into the United States. Chile accounted for 4,841 metric tons, 3,811 metric tons arrive for Mexico, 1,245 metric tons were imported from Argentina, and 1,245 metric tons arrived from the Republic of South Africa. Most of the remaining balance came from Iran, Turkey, and Pakistan. During the 1999-2000 season, 17,538 metric tons of raisins were imported. Of the tonnage, 6,076 metric tons came from Mexico, 6,134 metric tons came from Chile, 2,436 tons arrived from Argentina, and 1,400 metric tons were from the Republic of South Africa. Most the remaining tonnage was imported from Afghanistan, Turkey, and Pakistan. During the 1996-97 through 2000-01 seasons, raisins imports ranged from a low of 10,390 metric tons in 1997-98 to a high of 25,337 metric tons in 1998-99.

This rule would add Other Seedless-Sulfured raisins to the list of varietal types specified in § 999.300(a)(2) of the raisin import regulation. This rule would also add Other Seedless-Sulfured raisins to § 999.300(b)(1); thus, imports of such raisins would have to meet the same quality requirements in effect for such domestically produced raisins. Authority for these changes is provided in section 8e of the Act.

Regarding the impact of this action on affected entities, this rule would bring the import regulation into conformity with the domestic regulation. The domestic regulation was changed on May 29, 2002 (67 FR 36789) to add a varietal type, along with quality requirements, for Other Seedless-Sulfured raisins. This is a new type of raisin being produced by some members of the California raisin industry. Accordingly, under section 8e of the Act, imports of Other Seedless-Sulfured raisins would have to meet the same quality requirements as the domestic product. Raisin importers would continue to be charged $47 per ton by USDA for inspecting the raisins. As previously stated, USDA is not aware at this time of any imports of this type of raisin.

With regards to alternatives, as previously stated, the Act requires that raisin imports meet the same or comparable grade and size requirements as those in effect under Federal Marketing Order No. 989.

This rule would impose no additional reporting or recordkeeping requirements on either small or large raisin importers. Reports and forms required under the raisin import regulation are periodically reviewed to reduce information requirements and duplication by industry and public sector agencies. There are currently two forms required under the raisin import regulation. Forms 1 and 2 must be completed only for lots of raisins that do not meet applicable grade and size requirements and are going to be used in the production of other products besides raisins. In accordance with the Paperwork Reduction Act of 1995 (44 U.S.C. chapter 35), the information collection requirements referenced herein have been approved by the Office of Management and Budget (OMB) under OMB. NO. 0581-0178. It is estimated that it takes importers of raisins about 15 minutes to complete Raisin Form No. 1, and processors of failing imported raisins about 15 minutes to complete Raisin Form No. 2. The total annual burden for Raisin Form Nos. 1 and 2, respectively, is 24 hours.

Additionally, except for applicable domestic regulations, USDA has not identified any relevant Federal rules that duplicate, overlap, or conflict with this rule. However, as previously stated, imports of Other Seedless-Sulfured raisins must meet a modified U.S. Grade C as defined in the United States Standards for Grades of Processed Raisins (§§ 52.1841 through 52.1858) issued under the Agricultural Marketing Act of 1946 (7 U.S.C. 1622 through 1624). Finally, all interested persons are invited to submit information on the regulatory and information impact of this action on small businesses.

A small business guide on complying with fruit, vegetable, and specialty crop marketing agreements and orders may be viewed at: http://www.ams.usda.gov/fv/moab.html. Any questions about the compliance guide should be sent to Jay Guerber at the previously mentioned address in the FOR FURTHER INFORMATION CONTACT section.

In accordance with section 8e of the Act, the United States Trade Representative has concurred with the issuance of this proposed rule.

This rule invites comments on adding Other Seedless-Sulfured raisins, along with quality requirements, to the raisin import regulation. A 60-day comment period is provided to allow interested persons to respond to this rule. All comments received will be considered prior to finalization of this rule.

List of Subjects in 7 CFR Part 999

Dates, Filberts, Food grades and standards, Imports, Nuts, Prunes, Raisins, Reporting and recordkeeping requirements.

For the reasons set forth in the preamble, 7 CFR part 999 is proposed to be amended to read as followed:

PART 999—SPECIALITY CROPS; IMPORT REGULATIONS

1. The authority citation for 7 CFR part 999 continues to read as follows:

Authority: 7 U.S.C. 601-674.

2. In § 999.300, paragraph (a)(2) and (b)(1) are revised to read as follows:

§ 999.300 Regulation governing importation of raisin.

(a) * * *

(2) Varietal type means the applicable one of the following: Thompson Seedless raisins, Muscat raisins, Layer Muscat raisins, Currant raisins, Monukka raisins, Other Seedless raisins, Golden Seedless raisins, and Other Seedless-Sulfured raisins.

* * * * *

(b) * * *

(1) With respect to Thompson Seedless and Other Seedless-Sulfured raisins —the requirements of U.S. Grade C as defined in the effective United States Standards of Grades of Processed Raisins (§§ 52.1841 through 52.1858 of this title): Provided, That, at least 70 percent, by weight, of the raisins shall be well-matured or reasonably well-matured. With respect to select-sized and mixed-sized lots, the raisins shall at least meet the U.S. Grade B tolerances for pieces of stem and undeveloped and substandard raisins, and small (midget) sized raisins shall meet the U.S. Grade C tolerances for those factors;

* * * * *

Dated: June 10, 2002.
A.J. Yates,
Administrator, Agricultural Marketing Service.

[FR Doc. 02-15059 Filed 6-13-02; 8:45 am]

BILLING CODE 3410-02-P